NATIONAL SCIENCE FOUNDATION

Notice of Open to the Public Meetings of the Networking and Information Technology Research and Development (NITRD) Program

AGENCY: Networking and Information Technology Research and Development (NITRD) National Coordination Office (NCO), National Science Foundation.

ACTION: Notice of public meetings.

SUMMARY: The NITRD Joint Engineering Team (JET) and Middleware And Grid Interagency Coordination (MAGIC) Team hold meetings that are open to the public to attend. The JET and the MAGIC Team provide an opportunity for the public to engage and participate in information sharing with Federal agencies. The JET and MAGIC Team report to the NITRD Large Scale Networking Interagency Working Group.

DATES: January 2023-December 2023.

FOR FURTHER INFORMATION CONTACT: Paul Love for the JET and Mallory Hinks for the MAGIC Team at nco@nitrd.gov or (202) 459-9674. Individuals who use a telecommunications device for the deaf (TDD) may call the Federal Information Relay Service (FIRS) at 1-800-877-8339 between 8 a.m. and 8 p.m., Eastern time, Monday through Friday, except for U.S. Federal Government holidays.

SUPPLEMENTARY INFORMATION: The Joint Engineering Team (JET), established in 1997, provides an opportunity for information sharing among Federal agencies and non-Federal participants who have an interest in high-performance research and engineering or research and education networking and networking to support science applications.

The MAGIC Team, established in 2002, provides for information sharing among Federal agencies and non-Federal participants with interests and responsibility for middleware, Grid, and cloud projects; middleware, Grid, and cloud research and infrastructure; implementing or operating Grids and clouds; and users of Grids, clouds, and middleware.

The JET and MAGIC Team meetings are hosted by the NITRD NCO with Zoom participation available for each meeting.

Public Meetings Website: The JET and MAGIC Team meetings are scheduled 30 days in advance of the meeting date. Please reference the NITRD Public Meetings web page (https://www.nitrd.gov/public-meetings/) for each Team's upcoming meeting dates and times, in addition to the agendas, minutes, and other meeting materials and information.

Public Meetings Mailing Lists: Members of the public may be added to the mailing lists by sending their full name and email address to jet-signup@nitrd.gov for JET and magic-signup@nitrd.gov for MAGIC, with the subject line: “Add to JET” and/or “Add to MAGIC.” Meeting notifications and information are shared via the mailing lists.

Public Comments: The government seeks individual input; attendees/participants may provide individual advice only. Members of the public are welcome to submit their comments for JET to jet-comments@nitrd.gov and for MAGIC to magic-comments@nitrd.gov. Please note that under the provisions of the Federal Advisory Committee Act (FACA), all public comments and/or presentations will be treated as public documents and may be made available to the public via the JET (https://www.nitrd.gov/coordination-areas/lsn/jet/) and MAGIC (https://www.nitrd.gov/coordination-areas/lsn/magic/) web pages.

Reference Website: NITRD Website at: https://www.nitrd.gov/.

Submitted by the National Science Foundation in support of the Networking and Information Technology Research and Development National Coordination Office on January 4, 2023.

Suzanne H. Plimpton,
Reports Clearance Officer, National Science Foundation.

[FR Doc. 2023-00162 Filed 1-6-23; 8:45 am]

BILLING CODE 7555-01-P